DEPARTMENT OF ENERGY

[DE-PS07-02ID14265]

University Research for the High Temperature Superconductivity Program

AGENCY: Idaho Operations Office, DOE.

ACTION: Notice of competitive financial assistance solicitation.

SUMMARY: The U.S. Department of Energy (DOE) Idaho Operations Office (ID) is seeking applications for university research projects in partnership with a national laboratory in support of the High Temperature Superconductivity Program to expand the research base. The research must support Superconductivity for Electric Systems Program milestones, research objectives, and long-term goals. Information on Superconductivity for Electric Systems Program can be found at URL: http://www.eren.doe.gov/superconductivity/pdfs/superconelectric_reg_materials.pdf.

DATES: The issuance date of Solicitation Number DE-PS07-02ID14265 will be on or about August 15, 2002. The application, SF 424, technical proposal, and resumes, must have an IIPS transmission time stamp of not later than 5 p.m. MST on Friday, October 25, 2002. Late applications will not be considered.

ADDRESSES: Completed applications are required to be submitted via the U.S. Department of Energy Industry Interactive Procurement System (IIPS) at the following URL: http://e-center.doe.gov.

FOR FURTHER INFORMATION CONTACT: Elizabeth Dahl, Contract Specialist at dahlee@id.doe.gov, facsimile at (208) 526-5548, or by telephone at (208) 526-7214.

SUPPLEMENTARY INFORMATION: DOE anticipates making approximately 5 cooperative agreement awards under this solicitation with a maximum estimated DOE funding of $200,000 per year for each cooperative agreement up to a three-year period, subject to the availability of funds. Approximately $3 million in federal funds are expected to be available to fund selected research projects over the three-year period. Cost share is not required. The solicitation is available in its full text via the Internet at the following address: http://e-center.doe.gov. The statutory authority for this program is the Department of Energy Organization Act of 1977, Public Law 95-91 and the Federal Non-Nuclear Energy Research and Development Act, Public Law 93.577. The Catalog of Federal Domestic Assistance (CFDA) Number for this program is 81.087, Renewable Energy Research and Development.

Issued in Idaho Falls on August 15, 2002.
Michael L. Adams,
Acting Director, Procurement Services Division.

[FR Doc. 02-21418 Filed 8-21-02; 8:45 am]

BILLING CODE 6450-01-P